DEPARTMENT OF HOMELAND SECURITY

Office of the Secretary

Privacy Act of 1974; Consolidation of Department of Homeland Security Training Systems of Records

AGENCY: Privacy Office, DHS.

ACTION: Notice to consolidate seven Privacy Act system of records notices; Notice of an additional routine use.

SUMMARY: In accordance with the Privacy Act of 1974, the Department of Homeland Security is giving notice that it proposes to consolidate the following Privacy Act system of records notices, Treasury/CS.238 Training and Career Individual Development Plans (66 FR 52984 October 18, 2001), Treasury/CS.239 Training Records (66 FR 52984 October 18, 2001), FEMA/NETC-1 Student Application and Registration Records (55 FR 37182 September 7, 1990), FEMA/NETC-2 Emergency Management Training Program Home Study Courses (55 FR 37182 September 7, 1990), FEMA/NETC-4 Associate Faculty Tracking System (55 FR 37182 September 7, 1990), Treasury/FLETC. 002 FLETC Trainee Records (66 FR 43955 August 21, 2001), and USSS.009 Training Information System (66 FR 45362 August 28, 2001), into the existing Department of Homeland Security-wide system of records notice titled DHS/ALL-003 Department of Homeland Security General Training Records (71 FR 26767 May 8, 2006).

Additionally, the Department of Homeland Security is giving notice that it proposes to add a routine use to the existing Department of Homeland Security-wide system of records notice titled DHS/ALL-003 Department of Homeland Security General Training Records (71 FR 26767 May 8, 2006). The routine use is to providing training records to employers to the extent necessary to obtain information pertinent to the individual's fitness and qualifications for training and to provide training status.

DATES: These changes will take effect on October 30, 2008.

FOR FURTHER INFORMATION CONTACT: Hugo Teufel III, Chief Privacy Officer, Department of Homeland Security, Washington, DC 20528, by telephone (703) 235-0780 or facsimile (703) 235-0442.

SUPPLEMENTARY INFORMATION: Pursuant to the provisions of the Privacy Act of 1974, 5 U.S.C. 552a, and as part of its ongoing integration and management efforts, the Department of Homeland Security (DHS) is consolidating the system of records notice, Treasury/CS.238 Training and Career Individual Development Plans (66 FR 52984 October 18, 2001), that has been issued by Customs Service, Department of Treasury prior to the creation of the Department of Homeland Security.

DHS will continue to collect and maintain records regarding individuals who attend DHS-sponsored training programs and will rely upon the existing DHS-wide system of records notice titled DHS/ALL-003 Department of Homeland Security General Training Records (71 FR 26767 May 8, 2006).

For similar reasons, DHS is reclassifying six additional legacy systems of records notices. The second system, Treasury/CS.239 Training Records (66 FR 52984 October 18, 2001), is also maintained by Customs Service, Department of Treasury and records Customs employees who have completed training.

The third system, FEMA/NETC-1 Student Application and Registration Records (55 FR 37182 September 7, 1990), is maintained by the Federal Emergency Management Agency (FEMA). This system records individuals who apply for and complete resident and field emergency management training conducted under the auspices of the National Emergency Training Center. This system also records individuals who apply for and complete courses at the National Fire Academy and Emergency Management Institute.

The fourth system, FEMA/NETC-2 Emergency Management Training Program Home Study Courses (55 FR 37182 September 7, 1990), is maintained by FEMA and records individuals who are enrolled in and/or have completed home study courses offered by the Emergency Management Training Program.

The fifth system, FEMA/NETC-4 Associate Faculty Tracking System (55 FR 37182 September 7, 1990), is maintained by FEMA and records individuals who provide instruction in the delivery of Office of Training resident and field courses.

The sixth system, Treasury/FLETC.002 FLETC Trainee Records (66 FR 43955 August 21, 2001), is maintained by the Federal Law Enforcement Training Center (FLETC) and records individuals who attend a FLETC-sponsored training program, symposium, or similar event.

The seventh system, USSS.009 Training Information System (66 FR 45362 August 28, 2001), is maintained by the United States Secret Service and records the training records of current and former Secret Service employees and officers of the Secret Service Uniformed Division.

Additionally, the Department of Homeland Security is giving notice that it proposes to add a routine use to the existing Department of Homeland Security-wide system of records notice titled DHS/ALL-003 Department of Homeland Security General Training Records (71 FR 26767 May 8, 2006). The routine use is to providing training records to employers to the extent necessary to obtain information pertinent to the individual's fitness and qualifications for training and to provide training status.

Eliminating these notices and adding this routine use will have no adverse impacts on individuals, but will promote the overall streamlining and management of DHS Privacy Act record systems.

Dated: September 24, 2008.
Hugo Teufel III,
Chief Privacy Officer, Department of Homeland Security.

[FR Doc. E8-23003 Filed 9-29-08; 8:45 am]

BILLING CODE 4410-10-P